DEPARTMENT OF COMMERCE

National Oceanic and Atmospheric Administration

[RTID 0648-XE768]

Fisheries of the U.S. Caribbean; Southeast Data, Assessment, and Review (SEDAR); Public Meeting; Cancellation

AGENCY: National Marine Fisheries Service (NMFS), National Oceanic and Atmospheric Administration (NOAA), Commerce.

ACTION: Notice of cancellation; SEDAR 101 Pre-Data Workshop Webinar for Highly Migratory Species (HMS) Sandbar Sharks.

SUMMARY: The SEDAR 101 assessment process of HMS sandbar sharks will consist of a Data Workshop, an Assessment Workshop and a Center for Independent Experts (CIE) Desk Review. See SUPPLEMENTARY INFORMATION.

DATES: The SEDAR 101 Pre-Data Workshop webinar was scheduled for April 7, 2025, from 10 a.m. to 12 p.m. Eastern Time.

ADDRESSES:

Meeting address: The meeting was to be held via webinar.

SEDAR address: 4055 Faber Place Drive, Suite 201, North Charleston, SC 29405.

FOR FURTHER INFORMATION CONTACT: Emily Ott, SEDAR Coordinator; (843) 302-8434; email: Emily.Ott@safmc.net.

SUPPLEMENTARY INFORMATION: The meeting notice published on March 18, 2025 (90 FR 12525). This announces that the meeting is cancelled and will be rescheduled at a later date.

Authority: 16 U.S.C. 1801 et seq.

Dated: March 19, 2025.
Rey Israel Marquez,
Acting Deputy Director, Office of Sustainable Fisheries, National Marine Fisheries Service.

[FR Doc. 2025-04959 Filed 3-21-25; 8:45 am]

BILLING CODE 3510-22-P